DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2005, there were four applications approved. This notice also includes information on four other applications, approved in November 2005, inadvertently left off the November 2005 notice. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: Huntsville-Madison County Airport Authority, Huntsville, Alabama.

Application Number: 05-14-C-00-HSV.

Application Type: Impose and use a PFC.

PFC Level: $4.50.

Total PFC Revenue Approved in This Decision: $4,903,496.

Earliest Charge Effective Date: April 1, 2006.

Estimated Charge Expiration Date: April 1, 2008.

Classes of Air Carriers Not Required to Collect PFC's:

(1) Air taxi/commercial operators having fewer than 500 annual enplanements; (2) certified air carriers having fewer than 500 annual enplanements; and (3) certified route air carriers having fewer than 500 annual enplanements.

Determination: Approved. Based on information contained in the public agency's application, the FAA has determined that each approved class accounts for less than 1 percent of the total annual enplanements at Huntsville International Airport.

Brief Description of Projects Approved for Collection and Use:

Two security vehicles.

Runway guard lights.

Concourse/terminal renovations.

Public access circulation roads.

Decision Date: November 16, 2005.

FOR FURTHER INFORMATION CONTACT: Roderick Nicholson, Jackson Airports District Office, (601) 664-9884.

Public Agency: City of Pensacola, Florida.

Application Number: 05-07-C-00-PNS.

Application Type: Impose and use a PFC.

PFC Level: $4.50.

Total PFC Revenue Approved in This Decision: $82,514,000.

Earliest Charge Effective Date: December 1, 2007.

Estimated Charge Expiration Date: June 1, 2028.

Classes of Air Carriers Not Required to Collect PFC's:

Nonscheduled/on-demand air carriers filing FAA Form 1800-31.

Determination: Approved. Based on information contained in the public agency's application, the FAA has determined that the approved class accounts for less than 1 percent of the total annual enplanements at Pensacola Regional Airport.

Brief Description of Projects Approved for Collection and Use:

Terminal expansion and improvements.

Ramp expansion—design and construction.

Master plan update.

Land acquisition.

Lightning protection system.

Localizer and distance measuring equipment, runway 08.

Storm water drainage system improvements.

PFC implementation and administration.

Financial feasibility.

Brief Description of Disapproved Projects:

Employee parking lot expansion.

Determination: Employee parking lots are not eligible in accordance with paragraph 604 of FAA Order 5100.38C, Airport Improvement Program (AIP) Handbook (June 28, 2005).

Developmental Regional Impact.

Determination: This project includes elements of a master plan project, however, it does not focus on the airport development needs, but rather on the airport's impact on the community. Therefore, this project is not eligible.

Decision Date: November 16, 2005.

FOR FURTHER INFORMATION CONTACT: William Farris, Orlando Airports District Office, (407) 812-6331, extension 125.

Public Agency: City of Valdosta, Georgia.

Application Number: 06-07-C-00-VLD.

Application Type: Impose and use a PFC.

PFC Level: $3.00.

Total PFC Revenue Approved in This Decision: $67,858.

Charge Effective Date: February 1, 2006.

Estimated Charge Expiration Date: May 1, 2006.

Class of Air Carriers Not Required to Collect PFC's: None.

Brief Description of Projects Approved for Collection and Use:

Runway 17/35 extension (design).

Runway 17/35 extension (construction).

Decision Date: November 29, 2005.

FOR FURTHER INFORMATION CONTACT: Parks Preston, Atlanta Airports District Office, (404) 305-7149.

Public Agency: Dubuque Airport Commission, Dubuque, Iowa.

Application Number: 06-07-C-00-DBQ.

Application Type: Impose and use a PFC.

PFC Level: $4.50.

Total PFC Revenue Approved in This Decision: $153,046.

Earliest Charge Effective Date: March 1, 2006.

Estimated Charge Expiration Date: March 1, 2007.

Class of Air Carriers Not Required to Collect PFC's:

On-demand air taxi/commercial operators.

Determination: Approved. Based on information contained in the public agency's application, the FAA has determined that the approved class accounts for less than 1 percent of the total annual enplanements at Dubuque Regional Airport.

Brief Description of Projects Approved for Collection and Use:

Acquire deicer vehicle.

Construct snow removal equipment building.

Replace aircraft rescue and firefighting equipment.

PFC administrative costs.

Pavement condition index study.

Brief Description of Disapproved Project:

Secondary radar acquisition.

Determination: This project is not PFC-eligible.

Decision Date: November 30, 2005.

FOR FURTHER INFORMATION CONTACT: Lorns Sandridge, Central Region Airports Division, (816) 329-2641.

Public Agency: Port of Portland, Oregon.

Application Number: 05-09-C-00-PDX.

Application Type: Impose and use a PFC.

PFC Level: $4.50.

Total PFC Revenue Approved in This Decision: $68,207,251.

Earliest Charge Effective Date: May 1, 2016.

Estimated Charge Expiration Date: March 1, 2018.

Classes of Air Carriers Not Required to Collect PFC'S:

(1) Air taxi/commercial operators that enplane fewer than 500 passengers per year; and (2) all miscellaneous itinerant air carriers, which are nonscheduled/on-demand air carriers that do not provide regularly scheduled air service to Portland International Airport.

Determination: Approved. Based on information contained in the public agency's application, the FAA has determined that each approved class accounts for less than 1 percent of the total annual enplanements at Portland International Airport.

Brief Description of Projects Approved for Collection and Use at a $4.50 PFC Level:

Concourse corridor connector.

Taxiway B east and west.

Brief Description of Projects Approved for Collection and Use at a $3.00 PFC Level:

Deicing system design.

Land acquisition and exhibit A update.

Taxiway T and terminal apron rehabilitation.

Rehabilitate northeast apron.

Terminal building multi-user flight information display system/flight information display system.

Concourses A and B ramp rehabilitation.

North runway extension—feasibility and conceptual design, environmental analysis.

Terminal building Americans with Disabilities Act modifications.

Federal inspection station facility improvements.

Noise system upgrade.

Upgrade runway guard lights.

Common use ticket counter.

Roadway canopy bird netting.

Midfield checkpoint security identification display area access.

Install key control system.

Decision Date: December 7, 2005.

FOR FURTHER INFORMATION CONTACT: Suzanne Lee-Pang, Seattle Airports District Office, (425) 227-2654.

Public Agency: Pullman/Moscow Regional Airport, Pullman, Washington.

Application Number: 06-05-00-PUW.

Application Type: Impose and use a PFC.

PFC Level: $4.50.

Total PFC Revenue Approved in This Decision: $310,250.

Earliest Charge Effective Date: March 1, 2007.

Estimated Charge Expiration Date: September 1, 2010.

Class of Air Carriers Not Required to Collect PFC'S:

Nonscheduled air taxi/commercial operators, utilizing aircraft having a seating capacity of less than 20 passengers.

Determination: Approved. Based on information contained in the public agency's application, the FAA has determined that the approved class accounts for less than 1 percent of the total annual enplanements at Pullman/Moscow Regional Airport.

Brief Description of Projects Approved for Collection and Use:

Master plan.

Airport site investigation/runway designation.

Land acquisition/approach protection.

Reconstruction of general aviation apron.

Runway safety area grading.

PFC administrative fees.

Decision Date: December 20, 2005.

FOR FURTHER INFORMATION CONTACT: Suzanne Lee-Pang, Seattle Airports District Office, (425) 227-2654.

Public Agency: City of Colorado Springs, Colorado.

Application Number: 05-09-C-00-COS.

Application Type: Impose and use a PFC.

PFC Level: $3.00.

Total PFC Revenue Approved in This Decision: $5,847,000.

Earliest Charge Effective Date: November 1, 2007.

Estimated Charge Expiration Date: November 1, 2009.

Class of Air Carriers Not Required to Collect PFC'S:

None.

Brief Description of Project Approved for Collection and Use:

Airport drainage improvements.

Decision Date: December 27, 2005.

FOR FURTHER INFORMATION CONTACT: Christopher J. Schaffer, Denver Airports District Office, (303) 342-1258.

Public Agency: City of Chicago, Department of Aviation, Chicago, Illinois.

Application Number: 03-15-C-00-ORD.

Application Type: Impose and use a PFC.

PFC Level: $4.50.

Total PFC Revenue Approved in This Decision: $11,625,000.

Earliest Charge Effective Date: June 1, 2013.

Estimated Charge Expiration Date: July 1, 2013.

Class of Air Carriers Not Required to Collect PFC'S:

Air taxi.

Determination: Approved. Based on information contained in the public agency's application, the FAA has determined that the approved class accounts for less than 1 percent of the total annual enplanements at Chicago O'Hare International Airport (ORD).

Brief Description of Project Partially Approved for Collection at ORD and Use at ORD at a $4.50 PFC Level:

School soundproofing 2002-2003.

Determination: The approved amount is less than the amount requested in the PFC application because the public agency deleted two proposed schools from the project and reduces the PFC amount accordingly.

Brief Description of Project Partially Approved for Collection at ORD and Use at ORD at a $3.00 PFC Level:

Equipment acquisition 2001-2003.

Determination: The approved amount is less than the amount requested in the application. Only 7 of the 22 proposed pieces of equipment have been approved. The remaining 15 pieces of equipment were determined not to be eligible.

Brief Description of Projects Approved for Collection at ORD and Use at Gary/Chicago Regional Airport at a $3.00 PFC Level:

Acquire snow removal equipment (snow broom).

Expand snow removal equipment building.

Rehabilitate runway 12/30/

Terminal apron expansion and loading bridge installation.

Brief Description of Withdrawn Project:

Runway formulation.

Determination: The City of Chicago, Department of Aviation withdrew this project from its application by letter dated July 8, 2005.

Decision Date: December 28, 2005.

FOR FURTHER INFORMATION CONTACT: Chad Oliver, Chicago Airports District Office, (847) 294-7199.

Amendments to PFC Approvals

Amendment No. city, state | Amendment approved date | Original approved net PFC revenue | Amended approved net PFC revenue | Original estimated charge exp. date | Amended estimated charge exp. date.
94-01-C-08-CVG Covington, KY | 04/22/05 | $32,872,000 | $35,796,000 | 03/01/96 | 04/01/96
98-03-C-06-CVG Covington, KY | 04/22/05 | 24,004,000 | 24,833,000 | 07/01/99 | 09/01/99
99-05-C-05-CVG Covington, KY | 04/22/05 | 18,136,000 | 18,598,000 | 11/01/01 | 01/01/02
01-07-C-02-CVG Covington, KY | 04/22/05 | 29,046,000 | 32,074,000 | 08/01/03 | 08/01/03
99-02-C-02-PUW Pullman, WA | 12/13/05 | 714,731 | 706,727 | 10/01/05 | 10/01/05
02-03-U-01-PUW Pullman, WA | 12/13/05 | NA | NA | 10/01/05 | 10/01/05
02-04-C-01-PUW Pullman, WA | 12/13/05 | 89,900 | 111,937 | 03/01/07 | 03/01/07
* 97-01-C-02-SDF Louisville, KY | 12/14/05 | 90,600,000 | 90,600,000 | 04/01/18 | 04/01/12
* 01-02-C-03-SDF Louisville, KY | 12/14/05 | 10,732,140 | 10,012,140 | 04/01/17 | 03/01/13
* 03-03-C-01-SDF Louisville, KY | 12/14/05 | 5,666,800 | 5,666,800 | 06/01/18 | 09/01/13
Note: The amendment denoted by an asterisk (*) includes a change to the PFC level charged from $3.00 per enplaned passenger to $4.50 per enplaned passenger. For Louisville, KY, this change is effective on March 1, 2006.

Issued in Washington, DC, on February 8, 2006.
Joe Hebert,
Manager, Financial Analysis and Passenger Facility Charge Branch.

[FR Doc. 06-1314 Filed 2-10-06; 8:45 am]

BILLING CODE 4910-13-M